DEPARTMENT OF THE INTERIOR

Bureau of Land Management

[CA-939-1220-00 PD; G0-00]

Notice of Interim Final Supplementary Rules on the Piedras Blancas Light Station in California

AGENCY: Bureau of Land Management, Bakersfield Field Office, California, Interior.

ACTION: Notice of interim final supplementary rules for public land within the Piedras Blancas Light Station property, San Simeon, California.

SUMMARY: These supplementary rules are being established as interim final supplementary rules to provide immediate protection for cultural, historic, and natural features within the recently acquired section of public land at Piedras Blancas. This area contains sensitive habitat, protected marine mammals, cultural sites, and historic buildings. These supplementary rules serve to protect these features. The supplementary rules listed below are similar to rules in effect within most parks, nature preserves, and recreation areas.

DATES: The following supplementary rules are being published on an interim final basis, effective April 15, 2002. You may send your comments about these supplementary rules to the address below. Comments must be received or postmarked by June 14, 2002.

ADDRESSES: Mail: Bureau of Land Management, Bakersfield Field Office, 3801 Pegasus Drive, Bakersfield, CA, 93308. Personal or messenger delivery: Bureau of Land Management, Bakersfield Field Office, 3801 Pegasus Drive, Bakersfield, CA, 93308.

FOR FURTHER INFORMATION CONTACT: Ron Fellows, Field Manager, Bakersfield Field Office, Bureau of Land Management, 3801 Pegasus Drive, Bakersfield, CA 93308, telephone 661-391-6000.

SUPPLEMENTARY INFORMATION:

Public Comment Procedures:

Please submit your comments on issues related to the supplementary rules, in writing, according to the ADDRESSES section above. Comments on the supplementary rules should be specific, should be confined to issues pertinent to the supplementary rules, and should explain the reasons for any recommended change. Where possible, your comments should reference the specific section or paragraph of the proposed rule that you are addressing. BLM may not necessarily consider, or include in the Administrative Record, comments that we receive after the close of the comment period (see DATES) or comments delivered to an address other than those listed above (see ADDRESSES).

Under certain conditions, BLM can keep your personal information confidential. You must prominently state your request for confidentiality at the beginning of your comment. BLM will consider withholding your name, street address, and other identifying information on a case-by-case basis to the extent allowed by law. BLM will make available to the public all submissions from organizations and businesses and from individuals identifying themselves as representatives or officials of organizations or businesses.

Discussion of the Rules

The supplementary rules apply to the land and buildings at the Piedras Blancas Light Station located as follows: Mount Diablo Meridian Township 26 South, Range 6 East, U. S. Lighthouse Reserve and any adjacent parcels of public land managed by the BLM. BLM has determined these supplementary rules necessary to protect the area's natural, cultural, and historic resources and to provide for safe public recreation, public health, and reduce the potential for damage to the environment and to enhance the safety of visitors and neighboring residents.

Procedural Matters

These supplementary rules are not a significant regulatory action and are not subject to review by Office of Management and Budget under Executive Order 12866. These supplementary rules will not have an effect of $100 million or more on the economy. They will not adversely affect in a material way the economy, productivity, competition, jobs, the environment, public health or safety, or State, local, or tribal governments or communities. These supplementary rules will not create a serious inconsistency or otherwise interfere with an action taken or planned by another agency. These supplementary rules do not alter the budgetary effects of entitlements, grants, user fees, or loan programs or the right or obligations of their recipients; nor do they raise novel legal or policy issues.

BLM has determined that the supplementary rules are categorically excluded from environmental review under section 102(2)(C) of the National Environmental Policy Act, pursuant to 516 Departmental Manual (DM), Chapter 2, Appendix 1. In addition, the supplementary rules do not meet any of the 10 criteria for exceptions to categorical exclusions listed in 516 DM, Chapter 2, Appendix 2. Pursuant to Council on Environmental Quality regulations (40 CFR 1508.4) and the environmental policies and procedures of the Department of the Interior, the term “categorical exclusions” means a category of actions which do not individually or cumulatively have a significant effect on the human environment and that have found to have no such effect in procedures adopted by a Federal agency and for which neither an environmental assessment nor an environmental impact statement is required.

Congress enacted the Regulatory Flexibility Act of 1980, as amended, 5 U.S.C. 601-612, to ensure that Government regulations do not unnecessarily or disproportionately burden small entities. The RFA requires a regulatory flexibility analysis if a rule would have a significant economic impact, either detrimental or beneficial, on a substantial number of small entities. These supplementary rules are not a “major rule” as defined at 5 U.S.C. 804(2). These rules are limited in scope to a small section of public land and are intended to establish rules of conduct and acceptable behavior at the site for the protection of resources and the visiting public.

These supplementary rules do not impose an unfunded mandate on State, local, or tribal governments or the private sector of more than $100 million per year; nor do these supplementary rules have a significant or unique effect on State, local, or tribal governments or the private sector. These supplementary rules do not require funding or resources from State, Local, or tribal governments. These supplementary rules do not impact private property or property rights nor are they intended to deny or constrain any valid existing right. Therefore, BLM is not required to prepare a statement containing the information required by the Unfunded Mandates Reform Act (2 U.S.C. 1531 et seq.).

These supplementary rules do not represent a government action capable of interfering with constitutionally protected property rights. The supplementary rules are applicable only on public land managed by the BLM and do not extend to adjacent private property. No taking of private property is contemplated in these supplementary rules. Therefore, the Department of the Interior has determined that the supplementary rules would not cause a taking of private property or require further discussion of takings implications under this Executive Order.

The supplementary rules will not have a substantial direct effect on the States, on the relationship between the national government and the States, or on the distribution of power and responsibilities among the various levels of government. These supplementary rules are intended to protect property, resources, and the visiting public on a designated area of public land. The scope and effect of these supplementary rules are limited to those public purposes and do not redefine or impact established governmental structures, responsibilities, policies, or procedures. Therefore, in accordance with Executive Order 13132, BLM has determined that these supplementary rules do not have sufficient Federalism implications to warrant preparation of a Federalism Assessment.

Under Executive Order 12988, the Office of the Solicitor has determined that these supplementary rules will not unduly burden the judicial system and that these supplementary rules meet the requirements of sections 3(a) and 3(b)(2) of the Order. These supplementary rules have been written in plain text and are clearly understandable.

In accordance with Executive Order 13175, we have found that this final rule does not include policies that have tribal implications. These supplementary rules do not impact tribal lands nor are they intended to limit or interfere with any right or privilege granted to Native Americans.

These supplementary rules do not contain information collection requirements that the Office of Management and Budget must approve under the Paperwork Reduction Act of 1995, 44 U.S.C. 3501 et seq.

The principal author of these supplementary rules is Ron Fellows, Field Office Manager of the BLM Bakersfield Field Office, 3801 Pegasus Drive, Bakersfield, CA 93308.

For the reasons stated in the preamble, and under the authorities cited below, the BLM State Director, California, issues the following supplementary rules.

Dated: January 28, 2002.
James Wesley Abbott,
Acting State Director, California.

Note: These rules will not appear in the Code of Federal Regulations.

Supplementary Rules for Public Lands at the Piedras Blancas Light Station

Public Land Order 7501, published in the Federal Register on October 12, 2001 (66 FR 52149), authorized the Bureau of Land Management to manage the Piedras Blancas Light Station on behalf of the American people. The supplementary rules listed below are established under authority of 43 CFR 8364.1, 43 CFR 8365.1-6, and 43 CFR 8341.2(b).

1. You must not enter the lighthouse, other building or structure, grounds, beach area, trails, and access roads unless you are part of a scheduled tour, or at scheduled times as determined by the BLM. You must not camp or stay overnight without a permit from the BLM. You must not leave a scheduled tour and enter areas not covered by the tour.

2. You must not take, disturb, or harass wildlife. You must not approach elephant seals in a manner likely to disturb, alarm, or harm the animals. You must not collect or cut vegetation or collect wildlife except under the terms and conditions of a permit issued by the BLM.

3. You must not enter an area posted as closed. You must not walk, hike, or ride a bicycle on areas or trails not designated for this purpose.

4. You must not drive off the designated access roads and designated parking areas. You must not park a vehicle in a manner which prevents the movement of other vehicles. You must not park a vehicle in an area posted as a No Parking zone. You must not drive a vehicle faster than 15 miles per hour along the entrance road to the area.

5. You must not collect natural features such as rocks and minerals without a permit issued by the BLM. You must not conduct research projects and scientific studies without a permit from the BLM.

6. You must not allow domestic animals or pets to be on the site. Seeing-eye and hearing-ear dogs, and pets belonging to the resident staff are excepted. Domesticated pets belonging to the resident staff must be under control of the owner at all times.

7. You must not kindle, start, or attend a fire. You must not use any cooking device on the grounds of the area. You must not throw, place, discard or store litter, refuse, waste, garbage, peelings, pits, or wrappers anywhere except in litter receptacles or litter bags.

8. You must not be under the influence of drugs (as defined by Section 11550 of the California Health and Safety Code) or alcohol (blood alcohol level of 0.8%) within the area.

9. You must not discharge any firearms (except for law enforcement officials in the performance of their duties), air guns, slingshots or use any projectile launching device.

10. You must not engage in fighting, physically threatening or violent behavior.

11. You must not violate any of the laws of the State of California or ordinances of the County of San Luis Obispo. You must not violate regulations of the National Oceanographic and Atmospheric Administration which are in effect within the area.

Supplementary Rules 1 Through 5 Do Not Apply to:

1. Any public official in the performance of fire, emergency, rescue, medical, law enforcement or other similar duty.

2. Any Bureau of Land Management, U.S. Coast Guard, or other authorized personnel while in the performance of their duties, except as restricted by the BLM.

3. Any person or member of a group or institution expressly authorized by permit, license agreement, or other similar authorization while in the performance of activities covered by the authorization, except as restricted by the BLM.

Penalties

Under section 303(a) of the Federal Land Policy and Management Act of 1976 (43 U.S.C. 1733(a)) and 43 CFR 8360.0-7, if you violate any of these supplementary rules on public lands within the boundaries established in the rules, you may be tried before a United States Magistrate and fined no more than $1,000 or imprisoned for no more than 12 months, or both. Such violations may also be subject to the enhanced fines provided for by 18 U.S.C. 3571.

[FR Doc. 02-8887 Filed 4-12-02; 8:45 am]

BILLING CODE 4310-40-P